DEPARTMENT OF TRANSPORTATION

National Highway Traffic Safety Administration

[Docket No. NHTSA-2017-0014]

Technical Report Evaluating Fatality Reduction by Seat Belts in the Center Rear Seat

AGENCY: National Highway Traffic Safety Administration (NHTSA), Department of Transportation (DOT).

ACTION: Request for comments on technical report.

SUMMARY: This notice announces NHTSA's publication of a technical report estimating the fatality-reducing effectiveness of seat belts for adult and adolescent passengers in the center rear seats of passenger cars and LTVs. The report's title is: Fatality Reduction by Seat Belts in the Center Rear Seat and Comparison of Occupants' Relative Fatality Risk at Various Seating Positions.

DATES: Comments must be received no later than September 12, 2017.

ADDRESSES:

Report: The technical report is available on the Internet for viewing in PDF format at https://crashstats.nhtsa.dot.gov/Api/Public/ViewPublication/812369.

Comments: You may submit comments, identified by Docket Number NHTSA-2017-0014, by any of the following methods:

• Internet: To submit comments electronically, go to the U.S. Government regulations Web site at http://www.regulations.gov. Follow the online instructions for submitting comments.

• Fax: Written comments may be faxed to 202-493-2251.

• Mail: Send comments to Docket Management Facility, U.S. Department of Transportation, 1200 New Jersey Avenue SE., West Building Ground Floor, Room W12-140, Washington, DC 20590.

• Hand Delivery: If you plan to submit written comments by hand or courier, please do so at 1200 New Jersey Avenue SE., West Building Ground Floor, Room W12-140, Washington, DC between 9 a.m. and 5 p.m. Eastern Time, Monday through Friday, except federal holidays

• You may call Docket Management at 1-800-647-5527.

Instructions: For detailed instructions on submitting comments and additional information see the Comments heading of the SUPPLEMENTARY INFORMATION section of this document. Note that all comments received will be posted without change to http://www.regulations.gov, including any personal information provided. Please see the Privacy Act heading in the SUPPLEMENTARY INFORMATION.

FOR FURTHER INFORMATION CONTACT: John Kindelberger, Chief, Evaluation Division, NVS-431, National Center for Statistics and Analysis, National Highway Traffic Safety Administration, Room W53-312, 1200 New Jersey Avenue SE., Washington, DC 20590. Telephone: 202-366-4696. Email: john.kindelberger@dot.gov.

SUPPLEMENTARY INFORMATION: In 2002 Anton's Law (Pub. L. 107-318) directed NHTSA to require 3-point belts for each rear seating position—including center rear seats—in new passenger motor vehicles by September 1, 2007. Manufacturers had begun installing 3-point belts at the center rear seats in some makes and models as early as 1994, and completed the transition from lap belts to 3-point belts on time. Double-pair comparison and logistic regression analyses of FARS data for 1990 to 2014 show that 3-point belts are highly effective in the center rear seats: Buckling up reduces passengers' fatality risk by an estimated 58 percent in passenger cars (95% confidence bounds: 41% to 69%) and by 75 percent in LTVs (confidence bounds: 63% to 84%).

In cars of the 1960s and 70s, when restraints use rates were lower, the rear seats were substantially safer than the front seats for unrestrained occupants, and the center rear seat even safer than the outboard rear seats. These differences between seats have substantially diminished over the past 30 years. Statistical analyses of FARS do not show statistically significant mitigation of fatality risk for outboard rear or center rear seats of passenger cars relative to the driver's or right front seats, for belted occupants of the same age and gender. Corresponding analyses of LTVs show reduced fatality risk for the right front and right rear seats relative to the driver's seat; however, they do not show significant advantages for the outboard rear or center rear seats relative to the right front seats.

Comments

NHTSA welcomes public review of the technical report. NHTSA will submit to the Docket a response to the comments and, if appropriate, will supplement or revise the report.

How do I prepare and submit comments?

Your comments must be written and in English. To ensure that your comments are correctly filed in the Docket, please include the Docket number of this document (NHTSA-2017-0014) in your comments.

Your primary comments must not be more than 15 pages long (49 CFR 553.21). However, you may attach additional documents to your primary comments. There is no limit on the length of the attachments.

Please submit one copy of your comments, including the attachments, to Docket Management at the address given above under ADDRESSES.

Please note that pursuant to the Data Quality Act, in order for substantive data to be relied upon and used by the agency, it must meet the information quality standards set forth in the OMB and DOT Data Quality Act guidelines. Accordingly, we encourage you to consult the guidelines in preparing your comments. DOT's guidelines may be accessed at http://www.rita.dot.gov/bts/sites/rita.dot.gov.bts/files/subject_areas/statistical_policy_and_research/data_quality_guidelines/index.html.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

How can I be sure that my comments were received?

If you wish Docket Management to notify you upon its receipt of your comments, enclose a self-addressed, stamped postcard in the envelope containing your comments. Upon receiving your comments, Docket Management will return the postcard by mail. You may also periodically access http://www.regulations.gov and enter the number for this docket (NHTSA-2017-0014) to see if your comments are on line.

How do I submit confidential business information?

If you wish to submit any information under a claim of confidentiality, you should submit three copies of your complete submission, including the information you claim to be confidential business information, to the Chief Counsel, NHTSA, U.S. Department of Transportation, 1200 New Jersey Avenue SE., Washington, DC 20590. In addition, you should submit a copy, from which you have deleted the claimed confidential business information, to Docket Management at the address given above under ADDRESSES. When you send a comment containing information claimed to be confidential business information, you should include a cover letter setting forth the information specified in our confidential business information regulation. (49 CFR part 512.)

Will the agency consider late comments?

In our response, we will consider all comments that Docket Management receives before the close of business on the comment closing date indicated above under DATES. To the extent possible, we will also consider comments that Docket Management receives after that date.

How can I read the comments submitted by other people?

You may read the comments received by Docket Management at the address given above under ADDRESSES. The hours of the Docket are indicated above in the same location.

You may also see the comments on the Internet. To read the comments on the Internet, take the following steps:

(1) Go to http://www.regulations.gov.

(2) Regulations.gov provides two basic methods of searching to retrieve dockets and docket materials that are available in the system: (a) “Search” to search using a full-text search engine, or (b) “Advanced Search,” which displays various indexed fields such as the docket name, docket identification number, phase of the action, initiating office, date of issuance, document title, document identification number, type of document, Federal Register reference, CFR citation, etc. Each data field in the advanced search may be searched independently or in combination with other fields, as desired. Each search yields a simultaneous display of all available information found in regulations.gov that is relevant to the requested subject or topic.

(3) You may download the comments. However, since the comments are imaged documents, instead of word processing documents, the “pdf” versions of the documents are word searchable.

Please note that even after the comment closing date, we will continue to file relevant information in the Docket as it becomes available. Further, some people may submit late comments. Accordingly, we recommend that you periodically check the Docket for new material.

Authority: 49 U.S.C. 30111, 30181-83 delegation of authority at 49 CFR 1.95 and 501.8.

Issued in Washington, DC.
Joseph M. Kolly,
Acting Associate Administrator, National Center for Statistics and Analysis.

[FR Doc. 2017-09703 Filed 5-12-17; 8:45 am]

BILLING CODE 4910-59-P